DEPARTMENT OF COMMERCE

National Oceanic and Atmospheric Administration

RIN 0648-XA888

Marine Mammals; File No. 15682

AGENCY: National Marine Fisheries Service (NMFS), National Oceanic and Atmospheric Administration (NOAA), Commerce.

ACTION: Notice; issuance of permit.

SUMMARY: Notice is hereby given that a permit has been issued to Mithriel MacKay, Texas A&M University at Galveston, Galveston, TX 75003 to conduct research on humpback whales (Megaptera novaeangliae).

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

FOR FURTHER INFORMATION CONTACT: Kristy Beard or Joselyd Garcia-Reyes, (301) 427-8401.

SUPPLEMENTARY INFORMATION: On April 4, 2011, notice was published in the Federal Register (76 FR 18533) that a request for a permit to conduct research on humpback whales off Puerto Rico had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes up to 700 humpback whales to be harassed each year during vessel-based photo-identification, behavioral observation, and passive acoustic recording. The applicant requested that we remove the original request for divers to conduct underwater photography from the application. Whales will be harassed year-round, with efforts focused from October through July. The permit is valid for five years from the date of issuance.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on December 16, 2011.

As required by the ESA, issuance of this permit was based on a finding that such permit: (1) Was applied for in good faith; (2) will not operate to the disadvantage of such endangered species; and (3) is consistent with the purposes and policies set forth in section 2 of the ESA.

Dated: December 29, 2011.
P. Michael Payne,
Chief, Permits and Conservation Division, Office of Protected Resources, National Marine Fisheries Service.

[FR Doc. 2011-33761 Filed 1-3-12; 8:45 am]

BILLING CODE 3510-22-P